FEDERAL TRADE COMMISSION

16 CFR Part 305

RIN 3084-AB15

Energy Labeling Rule

AGENCY: Federal Trade Commission.

ACTION: Notice of proposed rulemaking; public hearing.

SUMMARY: In response to a recent notice of proposed rulemaking on the Energy Labeling Rule, one commenter, Dyson, Inc. (“Dyson”), requested an opportunity to present oral comments on proposed air cleaner labeling. In response, the Commission will hold a virtual oral hearing for the requester to provide its comments.

DATES: The oral hearing will be conducted virtually starting at 1:00 p.m. Eastern Time on September 19, 2024.

ADDRESSES: The Hearing Participant (i.e., Dyson) must submit any materials it intends to present at the oral hearing by following the instructions in Part III of the SUPPLEMENTARY INFORMATION section below. Write “Air Cleaner Labeling Oral Hearing (Matter No. R611004)” on any documentary submission and file it at electronicfilings@ftc.gov. If Dyson prefers to file a documentary submission on paper, please send it via overnight service to the following address: Federal Trade Commission, Office of the Secretary, 600 Pennsylvania Avenue NW, Mail Stop H-144 (Annex L), Washington, DC 20580.

FOR FURTHER INFORMATION CONTACT: Julia Ensor, 202-326-2377; and Hong Park, 202-326-2158.

SUPPLEMENTARY INFORMATION: On February 2, 2024 (89 FR 7566), the Commission published a notice of proposed rulemaking (“NPRM”) containing proposed amendments to improve the Energy Labeling Rule (“Rule”) (16 CFR part 305), including energy labels for several new consumer product categories such as air cleaners, clothes dryers, miscellaneous refrigeration products, and portable electric spas. In response, the Commission received 29 comments, which are posted on the docket at https://www.regulations.gov/docket/FTC-2024-0008.

I. Dyson's Request To Present Oral Views

In addition to soliciting written comments, the NPRM invited interested parties to request an opportunity to present oral data, views, and comments on the proposed amendments.¹ In response, Dyson asked to present its view on the Department of Energy's (“DOE”) test procedures for the proposed air cleaner labels. Specifically, Dyson requested the

¹ The Energy Policy and Conservation Act (“EPCA”), which directs FTC to issue energy labeling requirements, states that “the Commission shall afford interested persons an opportunity to present written or oral data, views, and comments with respect to the proposed labeling rules published under [section 6294(b)(1))].” 42 U.S.C. 6294(b)(2); see also 16 CFR 1.26(c). Because this Rule is promulgated under EPCA, the procedural requirements for rules promulgated under section 18 of the FTC Act (15 U.S.C. 57a) do not apply here.

. . . opportunity to present oral comments and other materials (such as audio/visual and/or visual aids) that Dyson believes would be helpful to the FTC in better understanding: (1) the misleading outputs of the DOE's test procedure as applied to room size coverage and energy efficiency claims for air cleaners, (2) the inapplicability of AHAM AC1 to real-world situations, (3) whether AHAM AC1 includes outdated elements and whether it has been subject to thorough review, (4) the feasibility of a one-size-fits-all room size test that may not capture the nuances of different air cleaners, and (5) if a one-size-fits-all room size test is appropriate, potential ways in which the DOE's test procedure could be modified to be more accurate and consistent, and avoid potential consumer confusion and harm for the reasons outlined above.

Therefore, the Commission issues this notice of oral hearing for Dyson on labeling for air cleaners.

II. Conduct of the Oral Hearing for Air Cleaner Labeling

Commission staff will preside over the oral hearing virtually using video conferencing at 1:00 p.m. Eastern Time on September 19, 2024. The presiding officer (Julia Ensor or Hong Park) will ensure the orderly conduct of the oral hearing and place the transcript and any written submissions by Dyson into the rulemaking record. The oral hearing will be available for the public to watch live from the Commission's website, https://www.ftc.gov. The oral hearing will be limited to the party requesting submission of oral comments, Dyson, and its concerns regarding labeling for air cleaners raised in its request. See section I, supra.

III. Making an Oral Statement or Documentary Submission

Dyson's oral statement will be limited to 20 minutes, although the oral statement may be supplemented by documentary submissions as described below, and the presiding officer may grant an extension of time for good cause shown. Dyson will be provided with instructions as to how to participate in the virtual hearing.

Dyson must submit any materials (e.g., slides) it intends to present at the oral hearing by submitting the materials to electronicfilings@ftc.gov on or before September 12, 2024.² Write “Air Cleaner Labeling Oral Hearing (Matter No. R611004)” on the submission. If Dyson files a documentary submission under this section, the documentary submission—including Dyson's name and State—will be placed on the rulemaking record of this proceeding, including on the website https://www.regulations.gov.

² Pursuant to 16 CFR 1.26(c), if, by reason of the limitations imposed, Dyson cannot complete the presentation of its suggestions, Dyson may, within 24 hours, file a written statement covering those relevant matters that it did not orally present. Any such statement must be submitted on the rulemaking docket and otherwise follow the instructions set out in this document for documentary submissions.

Because any documentary submission will be placed on the rulemaking record, Dyson is solely responsible for making sure the documentary submission does not include sensitive or confidential information. In particular, the documentary submission should not contain sensitive personal information, such as Social Security numbers; dates of birth; driver's license numbers or other State identification numbers or foreign country equivalent; passport numbers; financial account numbers; or credit or debit card numbers. Dyson is also solely responsible for making sure the documentary submission does not include sensitive health information, such as medical records or other individually identifiable health information. In addition, the documentary submission should not include any “[t]rade secret or any commercial or financial information which . . . is privileged or confidential”—as provided in section 6(f) of the FTC Act, 15 U.S.C. 46(f), and Commission Rule 4.10(a)(2), 16 CFR 4.10(a)(2)—including, in particular, competitively sensitive information such as costs, sales statistics, inventories, formulas, patterns, devices, manufacturing processes, or customer names.

Documentary submissions containing material for which confidential treatment is requested must be filed in paper form, must be clearly labeled “Confidential,” and must comply with Commission Rule 4.9(c), 16 CFR 4.9(c). In particular, the written request for confidential treatment that accompanies the documentary submission must include the factual and legal basis for the request and must identify the specific portions to be withheld from the public record. See Commission Rule 4.9(c). Documentary submissions will be kept confidential only if the General Counsel grants the request in accordance with the law and the public interest. Once a documentary submission has been posted publicly at https://www.regulations.gov—as legally required by Commission Rule 4.9(b), 16 CFR 4.9(b)—we cannot redact or remove it, unless the submitter submits a confidentiality request that meets the requirements for such treatment under Commission Rule 4.9(c), and the General Counsel grants that request.

The FTC Act and other laws that the Commission administers permit the collection of documentary submissions to consider and use in this proceeding as appropriate. The Commission will consider all timely and responsive documentary submissions it receives from Dyson. For information on the Commission's privacy policy, including routine uses permitted by the Privacy Act, see https://www.ftc.gov/siteinformation/privacypolicy.

If Dyson needs assistance complying with these instructions, it should indicate as much in a written submission, and the Commission will endeavor to provide accommodations. If Dyson does not have the computer technology necessary to participate in video conferencing, it will be able to participate in the oral hearing by telephone; it should indicate as much in its submission.

IV. Communications by Outside Parties to the Commissioners or Their Advisors

Written communications and summaries or transcripts of oral communications respecting the merits of this proceeding, from any outside party to any Commissioner or Commissioner's advisor, will be placed on the public record. See 16 CFR 1.26(b)(5).

By direction of the Commission.
Joel Christie,
Acting Secretary.

[FR Doc. 2024-17105 Filed 8-19-24; 8:45 am]

BILLING CODE 6750-01-P